DEPARTMENT OF HEALTH AND HUMAN SERVICES

Centers for Disease Control and Prevention

[RFA IP05-096]

Developing Methods and Strategies to Increase Use of Immunization Registries by Private Providers; Notice of Availability of Funds—Amendment

A notice announcing the availability of fiscal year (FY) 2006 funds for a cooperative agreement for Developing Methods and Strategies to Increase Use of Immunization Registries by Private Providers was published in the Federal Register, Wednesday, May 11, 2005, Volume 70, Number 90, pages 24812-24818.

The notice is amended as follows: Page 24812, second column, Letter of Intent Deadline, delete June 10, 2005, and replace with August 15, 2005. Page 24812, second column, Application Deadline, delete June 27, 2005, and replace with August 31, 2005. Page 24814, first column, Fiscal Year Funds, delete 2005, and replace with 2006. Page 24814, first column, Anticipated Award Date, delete August 31, 2005, and replace with November 30, 2005. Page 24815, first column, LOI Deadline Date, delete June 10, 2005, and replace with August 15, 2005. Page 24815, first column, Application Deadline Date, delete June 27, 2005, and replace with August 31, 2005. Page 24817, second column, Award Date, delete August 31, 2005, and replace with November 30, 2005.

Dated: June 2, 2005.
William P. Nichols,
Director, Procurement and Grants Office, Centers for Disease Control and Prevention.

[FR Doc. 05-11523 Filed 6-9-05; 8:45 am]

BILLING CODE 4163-18-P